DEPARTMENT OF AGRICULTURE

Food and Nutrition Service

Agency Information Collection Activities: Proposed Collection; Comment Request Worksheet for Food Stamp Program Quality Control Reviews

AGENCY: Food and Nutrition Service, USDA.

ACTION: Notice.

SUMMARY: As required by the Paperwork Reduction Act of 1995, this notice invites the general public and other public agencies to comment on the proposed information collection of the FNS-380, Worksheet for Food Stamp Program Quality Control Reviews. This proposed collection is a revision of a collection currently approved under OMB No. 0584-0074.

DATES: Written comments must be submitted on or before September 5, 2006.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

Send comments and requests for copies of this information collection to Daniel Wilusz, Chief, Quality Control Branch, Program Accountability Division, Food and Nutrition Service, U.S. Department of Agriculture, 3101 Park Center Drive, Room 822, Alexandria, VA 22302. You may fax comments on this notice to (703) 305-0928. You may also download an electronic version of this notice at http://www.fns.usda.gov/fsp/rules/Regulations/default.htm and comment via e-mail at Daniel.Wilusz@fns.usda.gov.

All responses to this notice will be included in the request for OMB's approval. All comments will also become a matter of public record.

FOR FURTHER INFORMATION CONTACT: Requests for additional information or copies of the information collection form and instruction should be directed to Daniel Wilusz at (703) 305-2460.

SUPPLEMENTARY INFORMATION: Title: Worksheet for Food Stamp Program Quality Control Reviews.

OMB Number: 0584-0074.

Form Number: FNS-380.

Expiration Date: November 30, 2006.

Type of Request: Revision of a currently approved collection.

Abstract: The Form FNS-380 is a worksheet used in the Food Stamp Program to determine eligibility and benefits for households selected for review in the quality control (QC) sample of active cases. We estimate the reporting burden for this collection of information averages 8.9764 hours per each State agency's response. This includes the time for analyzing the household case record; planning and carrying out the field investigation; gathering, comparing, analyzing and evaluating the review data and forwarding selected cases to the Food and Nutrition Service for Federal validation. In addition to the State agency's burden, we also estimate the average burden on each household to be 0.50 hours for each of the estimated 57,146 households being interviewed. This includes a face-to-face interview with the QC reviewer to verify the identity and existence of the household and to explore the household circumstances affecting the eligibility and benefit level. This is an increase of 2,443 State and household responses from the estimate made to substantiate the currently approved collection. The increase in responses is a result of an augmented participation rate that resulted in an increase in the number of cases being sampled. We estimate that the total reporting burden associated with this information collection for both State agencies and households is 541,432 hours. This is a 23,044 increase in hours from the currently approved burden of 518,388. The recordkeeping burden for the State agency is 0.0236 hours per record. There was a corresponding increase in the recordkeeping burden from 1,291 hours to 1,349 hours based on the increase in sample size. The aggregate of the reporting (541,432 hours) and recordkeeping (1,349 hours) resulted in a total annual burden of 542,781 hours.

Affected Public: Individuals or households; State or local governments.

Estimated Number of Responses Per Respondent: 1.00.

Estimated Number of Respondents: 57,199.

Estimated Total Annual Responses: 57,199 Responses.

Estimated Hours Per Response: 9.47 Hours.

Total Annual Reporting Burden: 541,432 Hours.

Estimated Number of Recordkeepers: 53.

Estimated Hours Per Recordkeeper: .0236 Hours.

Total Annual Recordkeeping Burden: 1,349 Hours.

Total Annual Reporting and Recordkeeping Burden: 542,781 Hours.

Dated: June 22, 2006.
Roberto Salazar,
Administrator.

[FR Doc. E6-10405 Filed 7-3-06; 8:45 am]

BILLING CODE 3410-30-P